DEPARTMENT OF TRANSPORTATION

Federal Railroad Administration

[Docket Number FRA-2012-0020]

Petition for Waiver of Compliance

In accordance with Part 211 of Title 49 Code of Federal Regulations (CFR), this document provides the public notice that by a document dated March 8, 2012, the Union Pacific Railroad (UP) has petitioned the Federal Railroad Administration (FRA) for a waiver of compliance from certain provisions of the Federal railroad safety regulations contained at 49 CFR Part 234. FRA assigned the petition Docket Number FRA-2012-0020.

UP seeks a waiver from the portion of 49 CFR Section 234.223, Gate arm. Section 234.223 requires that “each gate arm shall start its downward motion not less than three seconds after flashing lights begin to operate * * *.”

UP also requests that the normal position of the gate arm down and the flashing lights dark not be considered as an activation failure, partial activation, or a false activation under 49 CFR 234.5.

This waiver petition is related to the Illinois high-speed passenger rail project on the route between Chicago, IL, and St. Louis, MO; on UP's Joliet and Springfield Subdivisions. This route is owned and maintained by UP. High-speed passenger operation will be conducted by the National Railroad Passenger Corporation (Amtrak) or another operator designated by the Illinois Department of Transportation (IDOT).

At farm private crossings (also known as field access crossings), which are currently not protected by active warning devices, IDOT has requested UP install active warning devices that operate differently than standard active warning devices. Currently, there are 24 field access crossings proposed for the installation of the nonconventional crossing warning system.

At the field access crossings involved, the normal operation would require the gate arms to be in the lowered position with no flashing lights activated. Upon the train's approach, the flashing lights and bells would then activate. To allow for the landowner to bring vehicles or farm equipment across the crossing, it would be necessary to unlock a pushbutton box and operate the pushbutton. The gate would then return to the upright position and operate as a conventional active warning system for either 8 hours, or if “reset,” via pushbutton within the box. If not manually reset to the gate arm down condition, at the end of 8 hours the gate arms would then return to the down position.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal holidays.

Communications received by June 25, 2012 will be considered by FRA before final action is taken. Comments received after that date will be considered as far as practicable.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78), or online at http://www.dot.gov/privacy.html.

Issued in Washington, DC, on May 7, 2012.
Ron Hynes,
Acting Deputy Associate Administrator for Regulatory and Legislative Operations.

[FR Doc. 2012-11337 Filed 5-9-12; 8:45 am]

BILLING CODE 4910-06-P